NUCLEAR REGULATORY COMMISSION

10 CFR Parts 34, 36, and 39

RIN 3150-AG21

New Dosimetry Technology; Confirmation of Effective Date

AGENCY: Nuclear Regulatory Commission.

ACTION: Direct final rule; confirmation of effective date.

SUMMARY: The Nuclear Regulatory Commission (NRC) is confirming the effective date of January 8, 2001, for the direct final rule that appeared in the Federal Register of October 24, 2000 (65 FR 63750). This direct final rule amended the NRC's regulations that govern radiological safety to allow licensees to use any type of personnel dosimeter that requires processing to determine the radiation dose, provided that the processor of the dosimeter is accredited under the National Voluntary Laboratory Accreditation Program (NVLAP), operated by the National Institutes of Standards and Technology.

DATES: The effective date of January 8, 2001, is confirmed for this direct final rule.

ADDRESSES: Documents related to this rulemaking, including comments received, may be examined at the NRC Public Document Room, 11555 Rockville Pike, Rockville, MD. These same documents may also be viewed and downloaded electronically via the rulemaking website (http://ruleforum.llnl.gov). For information about the interactive rulemaking website, contact Ms. Carol Gallagher (301) 415-5905; e-mail CAG@nrc.gov.

FOR FURTHER INFORMATION CONTACT: Betty Ann Torres, Office of Nuclear Material Safety and Safeguards, U.S. Nuclear Regulatory Commission, Washington, DC 20555. Telephone (301) 415-0191 (E-mail: bat@nrc.gov).

SUPPLEMENTARY INFORMATION: On October 24, 2000 (65 FR 63750), the NRC published in the Federal Register a direct final rule amending its regulations to allow licensees to use any type of personnel dosimeter that is processed by an accredited NVLAP processor. In the direct final rule, the NRC stated that if no significant adverse comments were received, the direct final rule would become final on the date noted above. The NRC did not receive any comments that warranted withdrawal of this direct final rule. Therefore, this rule will become effective as scheduled.

Dated at Rockville, Maryland, this 3rd day of January, 2001.
For the Nuclear Regulatory Commission.
Michael T. Lesar,
Acting Chief, Rules and Directives Branch, Division of Administration Services, Office of Administration.

[FR Doc. 01-600 Filed 1-8-01; 8:45 am]

BILLING CODE 7590-01-P